DEPARTMENT OF HEALTH AND HUMAN SERVICES

Centers for Disease Control and Prevention

[60Day-08-0544]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

NIOSH Customer Satisfaction Survey—Reinstatement—National Institute for Occupational Safety and Health, Centers for Disease Control and Prevention.

Background and brief description:

The mission of the National Institute for Occupational Safety and Health (NIOSH) is to promote safety and health at work for all people through research and prevention. The Occupational Safety and Health Act, Public Law 91-596 (section 20[a] [1]) authorizes the National Institute for Occupational Safety and Health (NIOSH) to conduct research to advance the health and safety of workers. NIOSH conducted a baseline survey in 2003 to assess customer satisfaction with NIOSH communication products, services, and methods of dissemination [OMB no. 0920-0544 expired 03/31/2003]. The baseline survey established an initial benchmark for gauging the effectiveness of NIOSH's communication products, outreach services, and identified areas for improvement.

NIOSH is conducting a follow-up Customer Satisfaction Survey of occupational safety and health professionals. A mail survey is planned with an option that will allow respondents to complete the survey electronically. The current survey is a 5-year follow-up designed to enable NIOSH to determine the current level of customer satisfaction and identify changes that have occurred in the intervening years. The purpose of this survey is to evaluate the effectiveness of NIOSH's communication and dissemination program as a whole in serving the broad occupational safety and health professional community by addressing five questions: (1) To what extent are NIOSH communication products viewed as credible, useful sources of information on occupational safety and health issues? (2) To what extent has NIOSH been successful in distributing its communication products to its primary and traditional audience? (3) To what extent, and in what ways, have NIOSH communication products influenced workplace safety and health program policies and practices, or resolved other related issues? (4) What improvements could be made in the nature of NIOSH communication products and/or their manner of delivery that could enhance their use and benefits? (5) What is the reach and perceived importance of NIOSH outreach initiatives?

The survey will be directed to the community of occupational safety and health professionals, as this audience represents the primary and traditional customer base for NIOSH information materials. For this purpose four major associations identified with occupational safety and health matters have indicated their willingness to partner with NIOSH on this follow-up survey, as they did on the baseline. These are the American Industrial Hygiene Association (AIHA), the American College of Occupational and Environmental Medicine (ACOEM), the American Association of Occupational Health Nurses (AAOHN), and the American Society of Safety Engineers (ASSE).

There is no cost to respondents other than their time.

Estimated Annualized Burden Hours:

Type of respondent | Form name | No. of respondents | No. responses per respondent | Average burden per response (in hours) | Total burden hours
Industrial hygienists familiar with NIOSH | NIOSH Customer Satisfaction Survey | 193 | 1 | 20/60 | 64
Industrial hygienists not familiar with NIOSH | NIOSH Customer Satisfaction Survey | 8 | 1 | 6/60 | 1
Nurses familiar with NIOSH | NIOSH Customer Satisfaction Survey | 117 | 1 | 6/60 | 12
Nurses not familiar with NIOSH | NIOSH Customer Satisfaction Survey | 57 | 1 | 6/60 | 6
Physicians familiar with NIOSH | NIOSH Customer Satisfaction Survey | 103 | 1 | 20/60 | 34
Physicians not familiar with NIOSH | NIOSH Customer Satisfaction Survey | 53 | 1 | 6/60 | 5
Safety engineers familiar with NIOSH | NIOSH Customer Satisfaction Survey | 157 | 1 | 20/60 | 52
Safety engineers not familiar with NIOSH | NIOSH Customer Satisfaction Survey | 32 | 1 | 6/60 | 3
Total |  |  |  |  | 177

Dated: March 18, 2008.
Marilyn S. Radke,
Reports Clearance Officer, Centers for Disease Control and Prevention.

[FR Doc. E8-5860 Filed 3-21-08; 8:45 am]

BILLING CODE 4163-18-P